DEPARTMENT OF AGRICULTURE

Agricultural Marketing Service

[Docket No. LS-01-14]

Notice of Request for Extension and Revision of a Currently Approved Information Collection

AGENCY: Agricultural Marketing Service, USDA.

ACTION: Notice and request for comments.

SUMMARY: In accordance with the Paperwork Reduction Act of 1995 (44 U.S.C. chapter 35), this notice announces the Agricultural Marketing Service's (AMS) intention to request an extension of a currently approved information collection for grain and molasses market news reports.

DATES: Comments on this notice must be received by May 13, 2002, to be assured of consideration.

Additional Information or Comments: Comments may be mailed to Jimmy A. Beard; Assistant to the Chief; Livestock and Grain Market News Branch, Livestock and Seed Program, AMS, USDA; STOP 0252; 1400 Independence Avenue SW.; Washington, DC 20250-0252; Phone (202) 720-8054; Fax (202) 690-3732; or E-mail to John.VanDyke@usda.gov. All comments received will be available for public inspection at this address during the hours of 8 a.m. to 4 p.m. Monday through Friday, and on the Internet at www.ams.usda.gov/lsg/mncs.

All responses to this notice will be summarized and included in the request for OMB approval. All comments will become a matter of public record.

SUPPLEMENTARY INFORMATION: Title: Grain Market News Reports and Molasses Market News Reports.

OMB Number: 0581-0005.

Expiration Date of Approval: 07-31-2002.

Type of Request: Extension and revision of a currently approved information collection.

Abstract: The Agricultural Marketing Act of 1946 (7 U.S.C. 1621), section 203(g) directs and authorizes the collection and dissemination of marketing information including adequate outlook information, on a market area basis, for the purpose of anticipating and meeting consumer requirements, aiding in the maintenance of farm income, and to bring about a balance between production and utilization.

The grain industry has requested that USDA continue to issue market news reports on grain and molasses. These reports are compiled by AMS in cooperation with the grain and feed industry. Market news reporting must be timely, accurate, and continuous if it is to be useful to producers, processors, and the trade in general. Industry traders can use market news information to make marketing decisions on when and where to buy and sell. For example, a producer could compare prices being paid at local, terminal, or export elevators to determine which location will provide the best return. Some traders might choose to chart prices over a period of time in order to determine the most advantageous day of the week to buy or sell, or to determine the most favorable season. In addition, the reports are used by other Government agencies to evaluate market conditions and calculate price levels, such as USDA's Farm Service Agency, that administers the Farmer-owned Reserve Program. Economists at most major agricultural colleges and universities use the grain and feed market news reports to make short and long-term market projections. Also, the Government is a large purchaser of grain and related products, a system to monitor the collection and reporting of data is needed.

The information must be collected, compiled, and disseminated by an impartial third-party, in a manner which protects the confidentiality of the reporting entity. AMS is in the best position to provide this service.

Estimate of Burden: Public reporting burden for this collection of information is estimated to average .108 hours per response.

Respondents: Business or other for-profit entities, individuals or households, farms, and the Federal Government.

Estimated Number of Respondents: 202.

Estimated Number of Responses per Respondent: 19.

Estimated Total Annual Burden on Respondents: 420 hours.

Comments are invited on: (1) Whether the proposed collection of information is necessary for the proper performance of the functions of the Agency, including whether the information will have practical utility; (2) the accuracy of the Agency's estimate of the burden of the proposed collection of information, including the validity of the methodology and assumptions used; (3) ways to enhance the quality, utility, and clarity of the information to be collected; and (4) ways to minimize the burden of the collection of information on those who are to respond, including the use of appropriate automated, electronic, mechanical, or other technological collection techniques or other forms of information technology.

Dated: March 7, 2002.
A.J. Yates,
Administrator, Agricultural Marketing Service.

[FR Doc. 02-5935 Filed 3-12-02; 8:45 am]

BILLING CODE 3412-02-M